DEPARTMENT OF AGRICULTURE

Forest Service

Black Hills National Forest, Hell Canyon Ranger District, South Dakota, Vestal Project

AGENCY: Forest Service, USDA.

ACTION: Notice of intent to prepare an Environmental Impact Statement (EIS).

SUMMARY: The Forest Service will prepare an environmental impact statement on a proposal to use multiple vegetation treatments focused on reducing the threat to ecosystem components including forest resources from an existing insect epidemic (mountain pine beetle), creating a landscape condition that reduces the potential for high severity wildfire adjacent to the at-risk community of Custer, SD. The proposal is being planned for the 43,516 acre Vestal Project that includes about 25,726 acres of National Forest System land and about 17,790 acres of interspersed private land. The project area is located surrounding the city of Custer, SD. This project will be conducted as an authorized project under Section 102 of the Healthy Forests Restoration Act of 2003 (HFRA). Actions proposed for the Vestal Project would occur on National Forest System lands only.

DATES: Comments concerning the scope of the analysis would be most useful if received by 30 days following the date of this notice. The draft environmental impact statement is expected to be available for public review by November 2011 and the final environmental impact statement is expected to be completed by March 2012.

ADDRESSES: Send written comments to Lynn D. Kolund, District Ranger, Black Hills National Forest, Hell Canyon Ranger District, 330 Mount Rushmore Road, Custer, South Dakota 57730. Telephone Number: (605) 673-4853. E-mail: comments-rocky-mountain-black-hills-hell-canyon@fs.fed.us. Electronic comments must be readable in Word, Rich Text or PDF formats.

FOR FURTHER INFORMATION CONTACT: If you have any questions or need additional information, please contact Kelly Honors, Team Leader or Lynn D. Kolund, District Ranger, at the Hell Canyon Ranger District office in Custer, SD at (605) 673-4853.

SUPPLEMENTARY INFORMATION: The actions proposed are in direct response to management direction provided by the Black Hills National Forest Land and Resource Management Plan (Forest Plan). The site specific actions are designed, based on Forest Plan Standards and Guidelines, to move existing resource conditions in the Vestal Project toward meeting Forest Plan Goals and Objectives. The project area is located surrounding the at-risk community of Custer, SD.

Purpose and Need for Action

The primary purpose for action in the Vestal project is to reduce the threat to forest resources from the existing mountain pine beetle (MPB) epidemic. This action is needed because there is a rapidly increasing MPB outbreak occurring within the project area which is resulting in substantial levels of pine mortality. Existing stand conditions across the project area are largely at medium to high risk for MPB caused mortality.

A secondary purpose of this project is to protect local communities and watersheds from large-scale wildfire. This action is needed because the project area is located within and surrounding the town of Custer, SD and overall fire hazard in the area is high due to dense stand conditions and dead, dry fuels resulting from MPB caused mortality. Approximately 40 percent of lands in the project area are privately owned, with an estimated 3,194 private structures.

Proposed Action

• Thin and harvest approximately 19,779 acres of pine stands using a variety of methods to treat mountain pine beetle (MPB) infested stands, reduce the overall density of pine trees and create a mosaic of structural stages across the landscape. Both commercial harvest and non-commercial thinning will be used to reduce the stand density, and associated fuel hazard conditions and susceptibility to mountain pine beetle infestations.

• Reduce the amount of fuels that currently exist and that are modified by mountain pine beetle caused mortality by creation of fuelbreaks on 180 acres and deadfall treatment on 24,110 acres. Deadfall treatments could include lopping, chipping, crushing, piling and burning, and mastication of fuels. Prescribed broadcast burning on approximately 1,761 acres is also planned to disrupt the continuity of surface and canopy fuels. The deadfall treatment and prescribed burning would occur on sites also proposed for other mechanical treatments.

• Remove conifers from hardwood stands and meadows on approximately 1,889 acres and convert pine stands to aspen on 126 acres to provide additional wildfire protection by enhancing natural fuel breaks.

• Removal of live pine trees which have mountain pine beetle larva in them across the entire project area and as a stand alone treatment on approximately 3,655 acres. This is a suppression method for mountain pine beetle infestations.

• Conversion of 0.6 miles of unauthorized road to system road to facilitate treatments, and closure of approximately 0.9 miles of system road to protect resources.

Responsible Official

Lynn D. Kolund, District Ranger, Hell Canyon Ranger District, Black Hills National Forest, 330 Mount Rushmore Road, Custer, South Dakota 57730.

Nature of Decision To Be Made

The decision to be made is whether or not to implement the proposed action or possible alternative at this time.

Scoping Process

The Hell Canyon Ranger District has mailed letters with comprehensive scoping documents to local and tribal government representatives, permittees, organizations and others. A public notice will also be published in local newspapers. The scoping document with attached maps will also be posted on the Black Hills National Forest Web site. A public meeting is scheduled for Wednesday, May 11, 2011 from 5-7 p.m. at the Custer High School, Custer, South Dakota. Scoping comments submitted based on this NOI will be most useful if received within 30 days from the date of this notice.

Comment Requested

This notice of intent is part of the scoping process which will guide the development of the EIS. Comments received will assist the planning team to identify key issues and opportunities used to refine the proposal or develop possible alternatives. Comments on the DEIS will be requested during the 45 day comment period following publication of the Notice of Availability in the Federal Register, expected in November, 2011.

Early Notice of Importance of Public Participation in Subsequent Environmental Review

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, Section 21.

Dated: April 18, 2011.
Dennis Jaeger,
Deputy Forest Supervisor, Black Hills National Forest.

[FR Doc. 2011-9743 Filed 4-21-11; 8:45 am]

BILLING CODE 3410-11-P